DEPARTMENT OF THE INTERIOR

Office of the Secretary

National Geospatial Advisory Committee

AGENCY: Office of the Secretary, Interior.

ACTION: Notice of Renewal of National Geospatial Advisory Committee.

SUMMARY: This notice is published in accordance with Section 9(a) of the Federal Advisory Committee Act of 1972 (Pub. L. 92-463). Notice is hereby given that the Secretary of the Interior has renewed the National Geospatial Advisory Committee. The Committee will provide advice and recommendations to the Federal Geographic Data Committee (FGDC), through the FGDC Chair (the Secretary of the Interior or designee), related to management of Federal geospatial programs, development of the National Spatial Data Infrastructure (NSDI), and implementation of Office of Management and Budget (OMB) Circular A-16 and Executive Order 12906. The Committee will review and comment upon geospatial policy and management issues and will provide a forum to convey views representative of non-Federal partners in the geospatial community.

FOR FURTHER INFORMATION CONTACT: John Mahoney, USGS (phone: 206-220-4621, email: jmahoney@usgs.gov).

SUPPLEMENTARY INFORMATION: We are publishing this notice in accordance with the requirements of the Federal Advisory Committee Act (5 U.S.C. App.) (FACA). The Committee will conduct its operations in accordance with the provisions of the FACA. It will report to the Secretary of the Interior through the Chair of the FGDC Steering Committee and will function solely as an advisory body. The Committee will provide recommendations and advice to the Department and the FGDC on policy and management issues related to the effective operation of Federal geospatial programs.

The Secretary of the Interior will appoint Committee members. The Committee will be composed of up to 30 representatives, who will be selected to generally achieve a balanced representation of the viewpoints of the various stakeholders involved in national geospatial activities and the development of the NSDI.

The Committee is expected to meet 3-4 times per year. Committee members will serve without compensation. Travel and per diem costs will be provided for Committee members by the U.S. Geological Survey (USGS). The USGS will provide necessary support services to the Committee. Committee meetings will be open to the public. Notice of Committee meetings will be published in the Federal Register at least 15 days before the date of the meeting. The public will have an opportunity to provide input at these meetings.

In accordance with FACA, we will file a copy of the Committee's charter with the Committee Management Secretariat, General Services Administration; Committee on Energy and Natural Resources, United States Senate; Committee on Natural Resources, United States House of Representatives; and the Library of Congress.

The Certification for renewal is published below.

Certification

I hereby certify that the National Geospatial Advisory Committee is in the public interest in connection with the performance of duties imposed on the Department of the Interior by Office of Management and Budget (OMB) Circular A-16 (Revised), “Coordination of Geographic Information and Related Spatial Data Activities.” The Committee will assist the Department of the Interior by providing advice and recommendations related to the management of Federal geospatial programs and the development of the National Spatial Data Infrastructure.

Dated: January 14, 2014.
Sally Jewell,
Secretary of the Interior.

[FR Doc. 2014-03195 Filed 2-12-14; 8:45 am]

BILLING CODE 4311-AM-P